NUCLEAR REGULATORY COMMISSION

Public Meeting on NRC's Inspection Program in Offshore Federal Waters in the Gulf of Mexico

AGENCY: Nuclear Regulatory Commission.

ACTION: Notice of public meeting in Lafayette, Louisiana.

SUMMARY: The U.S. Nuclear Regulatory Commission will hold a public meeting on the NRC's inspection and enforcement program for licensed activities conducted in offshore Federal waters in the Gulf of Mexico. The meeting is intended to discuss current issues facing industrial radiography and well logging licensees as they implement the NRC requirements in offshore Federal waters.

Time/Date: The public meeting will be held on Thursday, May 10, 2001, from 9:00 a.m. to 12:30 p.m. (Central Daylight Savings Time).

Place: Hilton Hotel Lafayette, Ballroom, 4th Floor, 1521 West Pinhook Road, Lafayette, Louisiana 70503.

FOR FURTHER INFORMATION CONTACT: Richard A. Leonardi, Jr., Health Physicist, NRC Region IV Office, Division of Nuclear Materials Safety, Nuclear Materials Inspection Branch, Arlington, Texas 76011, or by telephone: (817) 860-8187, or email: ral@nrc.gov.

SUPPLEMENTARY INFORMATION: The U.S. Nuclear Regulatory Commission will hold a public meeting on the NRC's inspection and enforcement program for licensed activities conducted in offshore Federal waters in the Gulf of Mexico. The meeting is intended to discuss current issues facing industrial radiography and well logging licensees as they implement the requirements of 10 CFR parts 34, 39, and 150 in offshore Federal waters. The meeting is designed to inform, listen to, and learn from the meeting's attendees, including an exchange of information regarding the operational implications and unique conditions associated with the use of radiographic exposure devices on platforms and laybarges. The meeting will be facilitated by Francis X. Cameron, Special Counsel for Public Liaison, of the NRC Office of General Counsel.

To accomplish this goal, the NRC staff will make brief presentations on NRC's inspection and enforcement program, the Letter of Agreement between NRC and the Minerals Management Service (MMS) of the Department of the Interior, and the lessons learned during the initial implementation of NRC's inspection activities in the Gulf of Mexico. Presentations will be followed by a facilitated question and answer session to provide a forum for discussion of current issues and challenges facing NRC and Agreement State licensees performing licensed activities on oil/gas platforms and marine laybarges operating in the Gulf of Mexico. Attendees are expected to include individuals representing the industrial radiography and well logging industry, Federal and State regulatory organizations, platform and laybarge owners and operators, and interested members of the public. The meeting notice, meeting agenda, Letter of Agreement with MMS, and Federal Register notice of termination of the 274i Agreement with Louisiana can be obtained from the NRC website (http://www.nrc.gov/NRC/PUBLIC/meet.html#RIV), or by contacting Richard A. Leonardi, Jr. at (817) 860-8187 or email at ral@nrc.gov. Copies of these documents will also be available at the meeting.

Dated at Arlington, Texas this 18th day of April, 2001.
For the Nuclear Regulatory Commission.
Mark R. Shaffer,
Chief, Nuclear Materials Safety Branch, Division of Nuclear Materials Safety.

[FR Doc. 01-10415 Filed 4-25-01; 8:45 am]

BILLING CODE 7590-01-U